DEPARTMENT OF THE INTERIOR

Bureau of Land Management

[OR110-6310-DP; HAG02-0126]

Notice of Availability of the Draft Kelsey Whisky Landscape Management Plan, Associated Amendments to the Medford Resource Management Plan, and Draft Environmental Impact Statement

AGENCY: Glendale Resource Area, Medford District, Bureau of Land Management.

ACTION: Notice of availability of the Draft Kelsey Whisky Landscape Management Plan (LMP), Associated Amendments to the Medford Resource Management Plan (RMPA), and Draft Environmental Impact Statement (EIS) (RMPA/LMP/EIS).

SUMMARY: The Glendale Resource Area is providing the Draft Kelsey Whisky Landscape Management Plan (LMP), Associated Amendments to the Medford Resource Management Plan (RMPA), and Draft Environmental Impact Statement (EIS) (RMPA/LMP/EIS) for public review and comment. The planning area encompasses approximately 104,000 acres of public land managed by the Glendale Resource Area, Medford District and located in Josephine, Douglas and Curry counties in southwestern Oregon. The Bureau of Land Management (BLM) has and will continue to work closely with all interested parties to identify the management decisions that are best suited to the needs of the public. The public is invited to review and comment on the range and adequacy of the draft alternatives and associated environmental effects. For comments to be most helpful, they should relate to specific concerns or conflicts that are within the legal responsibilities of the BLM and they must be able to be resolved in this planning process. Specific comments are the most useful in helping us improve the analysis and development of the preferred alternative. Documents referenced in this draft EIS may be examined at the Medford District Office during normal working hours.

DATES: The comment period will end 90 days after the publication of the Environmental Protection Agency's Notice of Availability of the draft RMPA/LMP/EIS in the Federal Register. Comments must be received on or before the end of the comment period at the address listed below. No public meetings, open houses or field tours of the project area have been scheduled at this time. If there is sufficient public interest, public meetings will be arranged to discuss the management alternatives and answer questions. At least 15 days notice in local media will be given for activities where the public is invited to attend. All meetings will be published on the Medford District web site www.or.blm.gov/Medford under “Planning Documents” (subject to internet availability) and in the Grant's Pass Courier and Umpqua Free Press newspapers. Comments, including names and addresses of commentors, will be available for public review. Individual respondents may request confidentiality. If you wish to withhold your name and/or address from public review or from disclosure under the Freedom of Information Act, you must state this prominently at the beginning of your written comment. Such requests will be honored to the extent allowed by law. All submissions from organizations or businesses and from individuals identifying themselves as representatives or officials of organizations or businesses, will be made available for public inspection in their entirety.

ADDRESSES: Written comments should be sent to Sherwood Tubman, Ecosystem Planner, Glendale Resource Area, Bureau of Land Management, 3040 Biddle Road, Medford, Oregon 97504. Planning records are available at this address for inspection during normal working hours. Requests for copies of the draft plan can also be made by telephone to Sherwood Tubman at 541-618-2399 or Lynda Boody at 541-618-2279.

SUPPLEMENTARY INFORMATION: There are three action alternatives and a no-action alternative, each developed with differing emphasis. The range of management direction includes timber harvest of anywhere from 4.8 to 12.9 million board feet (MMBF), restoration activities, road decommissionings, water source enhancement projects, fuel hazard reduction treatments, and other land management direction. Public comments were considered in developing and analyzing issues and alternatives, along with local government, known interest groups and data developed by BLM staff. The alternatives were designed to address, in different ways, the land and resource management issues identified in the early stages of the planning process.

Authority: Federal Land Policy and Management Act (FLPMA) and the National Environmental Policy Act (NEPA).

Dated: March 14, 2002.
Lynda Boody,
Field Manager, Glendale Resource Area.

[FR Doc. 02-8228 Filed 4-3-02; 8:45 am]

BILLING CODE 4310-33-U